ENVIRONMENTAL PROTECTION AGENCY

[EPA-HQ-OPP-2014-0335; FRL-9910-28]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2013 to March 31, 2014 to control unforeseen pest outbreaks.

FOR FURTHER INFORMATION CONTACT: Lois Rossi, Registration Division (7505P), Office of Pesticide Programs, Environmental Protection Agency, 1200 Pennsylvania Ave. NW., Washington, DC 20460-0001; telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get copies of this document and other related information?

The docket for this action, identified by docket identification (ID) number EPA-HQ-OPP-2014-0335, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption.

III. Emergency Exemptions

A. U.S. States and Territories

Alabama

Department of Agriculture

Specific exemption: EPA authorized the use of potassium salt of hop beta acids in beehives to control varroa mite; February 27, 2014 to December 31, 2014.

Arkansas

State Plant Board

Specific exemption: EPA authorized the use of anthraquinone on rice seed to repel blackbirds; February 28, 2014 to June 1, 2014.

California

Department of Environmental Protection

Specific exemption: EPA authorized the use of etofenprox in mushroom houses to control phorid and sciarid flies; February 7, 2014 to February 7, 2015.

Specific exemption: EPA authorized the use of boscalid for post harvest use on Belgian endive to control the fungal pathogen Sclerotinia sclerotiorum; November 1, 2014 to February 15, 2014

Specific exemption: EPA authorized the use of potassium salt of hop beta acids in beehives to control varroa mite; January 10, 2014 to December 31, 2014.

Delaware

Department of Agriculture

Specific exemption: EPA authorized the use of potassium salt of hop beta acids in beehives to control varroa mite; January 10, 2014 to December 31, 2014.

Specific exemption: EPA authorized the use of thiabendazole in mushroom houses to control trichoderma green mold; January 17, 2014 to January 17, 2015.

Florida

Department of Agriculture and Consumer Services

Quarantine exemption: EPA authorized the use of propiconazole on avocado to control laurel wilt; March 27, 2014 to March 27, 2017.

Georgia

Department of Agriculture

Specific exemption: EPA authorized the use of potassium salt of hop beta acids in beehives to control varroa mite; February 27, 2014 to December 31, 2014.

Specific exemption: EPA authorized the use of fluridone in cotton to control palmer amaranth; February 28, 2014 to August 31, 2014.

Idaho

Department of Agriculture

Specific exemption: EPA authorized the use of potassium salt of hop beta acids in beehives to control varroa mite; January 31, 2014 to December 31, 2014.

Iowa

Department of Agriculture

Specific exemption: EPA authorized the use of potassium salt of hop beta acids in beehives to control varroa mite; January 23, 2014 to December 31, 2014.

Illinois

Department of Agriculture

Specific exemption: EPA authorized the use of potassium salt of hop beta acids in beehives to control varroa mite; January 17, 2014 to December 31, 2014.

Kansas

Department of Agriculture

Specific exemption: EPA authorized the use of potassium salt of hop beta acids in beehives to control varroa mite; February 27, 2014 to December 31, 2014.

Louisiana

Department of Agriculture and Forestry

Specific exemption: EPA authorized the use of anthraquinone on rice seed to repel blackbirds; February 20, 2014 to June 1, 2014.

Maryland

Department of Agriculture

Specific exemption: EPA authorized the use of thiabendazole in mushroom houses to control trichoderma green mold; January 17, 2014 to January 17, 2015.

Michigan

Department of Agriculture and Rural Development

Specific exemption: EPA authorized the use of kasugamycin on apples to control fire blight; March 28, 2014 to May 31, 2014. The applicant proposed the use of a new chemical which has not been registered by EPA; therefore, a Notice of Receipt was published in the Federal Register on February 24, 2014 (79 FR 10142) (FRL 9906-18). Kasugamycin is needed to control streptomycin-resistant strains of Erwinia amylovora, the causal pathogen of fire blight, due to the lack of available alternatives and effective control practices. Without the use of kasugamycin and if weather conditions are present which favor a fire blight epidemic, it is likely that Michigan apple growers could suffer yield losses of 50% or more.

Specific exemption: EPA authorized the use of potassium salt of hop beta acids in beehives to control varroa mite; February 27, 2014 to December 31, 2014.

Minnesota

Department of Agriculture

Specific exemption: EPA authorized the use of potassium salt of hop beta acids in beehives to control varroa mite; February 27, 2014 to December 31, 2014.

New York

Department of Environmental Conservation

Specific exemption: EPA authorized the use of potassium salt of hop beta acids in beehives to control varroa mite; March 12, 2014 to December 31, 2014.

North Carolina

Department of Agriculture and Consumer Services

Specific exemption: EPA authorized the use of fluridone in cotton to control palmer amaranth; February 28, 2014 to August 31, 2014.

Oregon

Department of Agriculture

Specific exemption: EPA authorized the use of fenoxaprop-p-ethyl in grasses grown for seed to control grassy weeds; January 17, 2014 to September 15, 2014.

Specific exemption: EPA authorized the use of potassium salt of hop beta acids in beehives to control varroa mite; February 27, 2014 to December 31, 2014.

Pennsylvania

Department of Agriculture

Specific exemption: EPA authorized the use of thiabendazole in mushroom houses to control trichoderma green mold; January 17, 2014 to January 17, 2015.

South Carolina

Department of Pesticide Regulation

Specific exemption: EPA authorized the use of fluridone in cotton to control palmer amaranth; February 28, 2014 to August 31, 2014.

Specific exemption: EPA authorized the use of potassium salt of hop beta acids in beehives to control varroa mite; March 12, 2014 to December 31, 2014.

Tennessee

Department of Agriculture

Specific exemption: EPA authorized the use of fluridone in cotton to control palmer amaranth; February 28, 2014 to August 31, 2014.

Texas

Department of Agriculture

Specific exemption: EPA authorized the use of flutriafol on cotton to control cotton root rot; effective date February 1, 2014 to June 30, 2014.

Specific exemption: EPA authorized the use of potassium salt of hop beta acids in beehives to control varroa mite; February 27, 2014 to December 31, 2014.

Washington

State Department of Agriculture

Specific exemption: EPA authorized the use of potassium salt of hop beta acids in beehives to control varroa mite; January 1, 2014 to December 31, 2014.

Wisconsin

Department of Agriculture, Trade and Consumer Protection

Specific exemption: EPA authorized the use of potassium salt of hop beta acids in beehives to control varroa mite; March 12, 2014 to December 31, 2014.

Wyoming

Department of Agriculture

Specific exemption: EPA authorized the use of potassium salt of hop beta acids in beehives to control varroa mite; February 27, 2014 to December 31, 2014.

B. Federal Departments and Agencies

U.S. Department of Agriculture

Animal and Plant Health Inspector Service

Quarantine exemption: EPA authorized the use of methyl bromide on post-harvest unlabeled imported/domestic commodities to prevent the introduction/spread of any new or recently introduced foreign pest(s) to any U.S. geographical location; March 1, 2014 to March 1, 2017.

List of Subjects

Environmental protection, Pesticides and pests.

Dated: May 9, 2014.
G. Jeffrey Herndon,
Acting Director, Registration Division, Office of Pesticide Programs.

[FR Doc. 2014-11222 Filed 5-15-14; 8:45 am]

BILLING CODE 6560-50-P